FEDERAL ELECTION COMMISSION

Sunshine Act Notices

DATE AND TIME: Thursday, February 22, 2007, at 10 a.m.

PLACE: 999 E Street, NW., Washington, DC (ninth floor).

STATUS: This meeting will be open to the public.

ITEMS TO BE DISCUSSED:

Correction and Approval of Minutes.

Regulations Priority.

Future Meeting Dates.

Management and Administrative Matters.

PERSON TO CONTACT FOR INFORMATION: Mr. Robert Biersack, Press Officer, Telephone: (202) 694-1220.

Mary W. Dove,
Secretary of the Commission.

[FR Doc. 07-782 Filed 2-15-07; 3:42 pm]

BILLING CODE 6715-01-M